ENVIRONMENTAL PROTECTION AGENCY

[EPA-HQ-OLEM-2022-0967; FRL-10938-01-OLEM]

Variances From the Classification of Solid Waste for HVF Precious Metals, LLC (Tucson, AZ)

AGENCY: Environmental Protection Agency (EPA).

ACTION: Notice of final decision.

SUMMARY: The Environmental Protection Agency (EPA) is granting a petition for variances from the classification as solid waste for two materials produced by HVF Precious Metals, LLC (HVF) at its facility in Tucson, Arizona.

DATES: Date of publication is July 5, 2023.

FOR FURTHER INFORMATION CONTACT: For further information regarding the Federal Register notice, contact Phoebe O'Connor, Office of Resource Conservation and Recovery, Office of Land and Emergency Management, (5304T), U.S. Environmental Protection Agency, 1200 Pennsylvania Avenue NW, Washington, DC 20460; telephone number: (202) 566-1451; email address: Oconnor.phoebe@epa.gov.

For further information regarding the incoming petition, Statement of Basis, and any technical questions, contact Sharon Lin, RCRA Branch; Land, Chemicals, and Redevelopment Division, U.S. Environmental Protection Agency Region 9, 75 Hawthorne Street, (Mail code LND-4-2), San Francisco, CA 94105; telephone number: (415) 972-3446; email address: Lin.Sharon@epa.gov.

SUPPLEMENTARY INFORMATION:

Background

Section 260.30(c) allows the EPA Administrator to determine on a case-by-case basis that materials that have been reclaimed but must be further reclaimed before the materials are fully recovered are not solid wastes. The effect of a variance from the classification of solid waste is to exempt the material from RCRA hazardous waste regulations. The EPA, after providing for notice and comment (see 88 FR 9277), is finalizing its response to a petition submitted by HVF on July 26, 2022 (HVF's Petition). HVF's Petition concerns two partially-reclaimed materials (“Solution Sweeps” and “Filter Sweeps”) produced at its Tucson, Arizona facility from precious metal-bearing waste from cyanide-based electroplating operations. As explained in the “Statement of Basis” available in the docket [Docket ID EPA-HQ-OLEM-2022-0967-0008], EPA's determination is that the two materials produced by HVF are “commodity-like” under the criteria listed in § 260.31(c) and are legitimately recycled, thus qualifying for variances from classification as solid waste under § 260.30(c). The EPA published a proposed response to the petition on February 13, 2023 (88 FR 9277). The comment period for the proposed action closed on March 30, 2023. The EPA did not receive any comments on the proposed action during the public comment period and is therefore finalizing the variance as proposed.

For information on the EPA's rationale for granting the petition, see the “Statement of Basis” available in the docket [Docket ID EPA-HQ-OLEM-2022-0967-0008]. EPA had previously provided a proposed “Statement of Basis” in the docket for the proposed variance determination [Docket ID EPA-HQ-OLEM-2022-0967-0002], and now, with this final variance determination, published in the July 5, 2023 Federal Register, EPA is also providing a final “Statement of Basis” in the docket for the final variance determination.

Michael S. Regan,
Administrator.

[FR Doc. 2023-14191 Filed 7-3-23; 8:45 am]

BILLING CODE 6560-50-P